SURFACE TRANSPORTATION BOARD

[Docket No. AB 1270]

Port of Benton, Wash.—Adverse Discontinuance of Rail Service—Tri-City Railroad Company, LLC

On February 27, 2019, the Port of Benton, Wash. (the Port), filed an application under 49 U.S.C. 10903 requesting that the Surface Transportation Board (the Board) authorize the third-party, or “adverse,” discontinuance of operating authority held by Tri-City Railroad Company, LLC (Tri-City), a Class III carrier, over approximately 10.89 miles of main line track (16 miles including sidings and connecting spur tracks), from MP 18.84 at Richland Junction to MP 29.73 at Horn Rapids Road in Richland, Wash. (the Line). The Line traverses U.S. Postal Service Zip Codes 99336, 99352, and 99354, and includes the stations of: (1) Richland Junction (MP 18.84); (2) Steptoe Street (MP 19.63); (3) Irrigation Canal Bridge (MP 19.74); (4) Columbia Park Trail Overpass (MP 19.96); (5) Yakima River Bridge (MP 21.0); (6) Pedestrian Bike Path (MP 21.14); (7) City Dock (MP 21.51); (8) Jadwin Avenue (MP 22.03); (9) Berry's Overpass Bridge (MP 22.64); (10) Duportail Street (MP 23.60); (11) Cemetery Road (MP 24.47); (12) Van Giesen Street (MP 25.45); (13) Airport Way (MP 26.04); (14) Lamb Weston (MP 26.46); (15) ConAgra (no milepost); (16) Saint Street (MP 26.92); (17) State Highway 240 (MP 26.97); (18) Tri-City Yard (MP 27.40); (19) N. Ladder (MP 28.59); (20) City Track (MP W28.9); (21) Battelle Blvd. (MP 29.22); and (22) Horn Rapids Road (MP 29.73).

According to the Port, it acquired the Line in 1998, with BNSF Railway Company (BNSF) and Union Pacific Railroad Company (UP) as operators on the Line. The Port states that, pursuant to a 2002 lease, Tri-City began operating over and maintaining the Line. The Port now seeks Board authority through an adverse discontinuance proceeding to terminate Tri-City's regulatory authority to lease and operate the Line. The Port asserts that service to customers will not be affected because both BNSF and UP hold operating rights to serve all customers and have stated their willingness to provide all service once Tri-City's service ends.

In decisions served in this proceeding on October 31, 2018, and February 21, 2019, the Port was granted exemptions from several statutory provisions as well as waivers of certain Board regulations that the Board concluded were unnecessary, difficult, or impossible for the Port to comply with in filing its application.

According to the Port, the Line does not contain federally granted rights-of-way. Any documentation in the Port's possession will be made available promptly to those requesting it. The Port's entire case for discontinuance was filed with the application.

Any interested person may file written comments concerning the proposed adverse discontinuance or protests (including protestant's entire opposition case) by April 15, 2019. Persons who may oppose the proposed adverse discontinuance but who do not wish to participate fully in the process by submitting verified statements of witnesses containing detailed evidence should file comments. Persons opposing the proposed adverse discontinuance who wish to participate actively and fully in the process should file a protest, observing the filing, service, and content requirements of 49 CFR 1152.25. The Port's reply is due by April 29, 2019.

All filings in response to this notice must refer to Docket No. AB 1270 and must be sent to: (1) Surface Transportation Board, 395 E Street SW, Washington, DC 20423-0001; (2) John D. Heffner, Clark Hill, PLC, 1001 Pennsylvania Ave. NW, Suite 1300 South, Washington, DC 20004; and (3) Eric Hocky, Clark Hill, PLC, 2005 Market Street, Philadelphia, PA 19103.

Filings may be submitted either via the Board's e-filing format or in the traditional paper format. Any person using e-filing should comply with the instructions found on the Board's website at www.stb.gov, at the “E-FILING” link. Any person submitting a filing in the traditional paper format should send the original and 10 copies of the filing to the Board with a certificate of service. Except as otherwise set forth in 49 CFR pt. 1152, every document filed with the Board must be served on all parties to this adverse discontinuance proceeding. 49 CFR 1104.12(a).

Persons seeking further information concerning discontinuance procedures may contact the Board's Office of Public Assistance, Governmental Affairs, and Compliance at (202) 245-0238 or refer to the full discontinuance regulations at 49 CFR pt. 1152. Assistance for the hearing impaired is available through the Federal Information Relay Service (FIRS) at 1-800-877-8339.

Board decisions and notices are available at www.stb.gov.

Decided: March 14, 2019.
By the Board, Allison C. Davis, Acting Director, Office of Proceedings.
Jeffrey Herzig,
Clearance Clerk.

[FR Doc. 2019-05154 Filed 3-18-19; 8:45 am]

BILLING CODE 4915-01-P